DEPARTMENT OF THE TREASURY

Office of Foreign Assets Control

Notice of OFAC Sanctions Actions

AGENCY: Office of Foreign Assets Control, Treasury.

ACTION: Notice.

SUMMARY: The Department of the Treasury's Office of Foreign Assets Control (OFAC) is publishing updates to the identifying information of one or more persons currently included in the SDN List. All property and interests in property subject to U.S. jurisdiction of these persons remain blocked, and U.S. persons are generally prohibited from engaging in transactions with them.

DATES: See Supplementary Information section for applicable date(s).

FOR FURTHER INFORMATION CONTACT: OFAC: Andrea Gacki, Director, tel.: 202-622-2480; Associate Director for Global Targeting, tel.: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List and additional information concerning OFAC sanctions programs are available on OFAC's website (www.treasury.gov/ofac).

Notice of OFAC Actions

On September 22, 2021, OFAC updated the entries on the SDN List for the following persons, whose property and interests in property subject to U.S. jurisdiction continue to be blocked under the relevant sanctions authorities listed below.

Individuals

1. BARAKZAI ANSARI, Haji Abdullah (a.k.a. ANSARI, Haji Abdullah; a.k.a. BARAKZAI, Haji Abdullah), c/o NEW ANSARI MONEY EXCHANGE, Afghanistan; National ID No. 10331 (Afghanistan) (individual) [SDNTK].

-to-

BARAKZAI ANSARI, Haji Abdullah (a.k.a. ANSARI, Haji Abdullah; a.k.a. BARAKZAI, Haji Abdullah), Afghanistan; DOB 1962; nationality Afghanistan; Gender Male; National ID No. 10331 (Afghanistan) (individual) [SDNTK] (Linked To: NEW ANSARI MONEY EXCHANGE).

Designated pursuant to one or more of the criteria under the Foreign Narcotics Kingpin Designation Act (Kingpin Act), 21 U.S.C. 1904(b).

2. GHANI, Mohammad Nadeem (a.k.a. GHANI, Mohamed Nadim), c/o ZULEKHA GENERAL TRADING LLC, Ajman, United Arab Emirates; United Kingdom; citizen United Kingdom; Passport 093055372 (United Kingdom) (individual) [SDNTK].

-to-

GHANI, Mohammad Nadeem (a.k.a. GHANI, Mohamed Nadim), United Kingdom; DOB Feb 1968; nationality United Kingdom; citizen United Kingdom; Gender Male; Passport 093055372 (United Kingdom) (individual) [SDNTK].

Designated pursuant to one or more of the criteria under the Kingpin Act.

3. KHALAF, Fuad Mohamed (a.k.a. KALAF, Fuad Mohamed; a.k.a. KALAF, Fuad Mohammed; a.k.a. KHALAF, Fuad; a.k.a. KHALIF, Fuad Mohamed; a.k.a. KHALIF, Fuad Mohammed; a.k.a. QALAF, Fuad Mohamed; a.k.a. SHANGOLE, Fuad; a.k.a. SHONGALE, Fouad; a.k.a. SHONGALE, Fuad; a.k.a. SHONGOLE, Fuad; a.k.a. SHONGOLE, Fuad Muhammad Khalaf; a.k.a. SONGALE, Fuad), Mogadishu, Somalia; nationality Somalia; alt. nationality Sweden (individual) [SOMALIA].

-to-

KHALAF, Fuad Mohamed (a.k.a. KALAF, Fuad Mohamed; a.k.a. KALAF, Fuad Mohammed; a.k.a. KHALAF, Fuad; a.k.a. KHALIF, Fuad Mohamed; a.k.a. KHALIF, Fuad Mohammed; a.k.a. QALAF, Fuad Mohamed; a.k.a. SHANGOLE, Fuad; a.k.a. SHONGALE, Fouad; a.k.a. SHONGALE, Fuad; a.k.a. SHONGOLE, Fuad; a.k.a. SHONGOLE, Fuad Muhammad Khalaf; a.k.a. SONGALE, Fuad), Mogadishu, Somalia; DOB 28 Mar 1965; alt. DOB 28 May 1965; POB Somalia; nationality Somalia; alt. nationality Sweden; Gender Male (individual) [SOMALIA].

Designated pursuant to one or more of the criteria set forth in Executive Order 13536 of April 12, 2010, “Blocking Property of Certain Persons Contributing to the Conflict in Somalia.”

4. OCHOA GUISAO, Walter, Colombia; POB Colombia; nationality Colombia; citizen Colombia; Cedula No. 10179825 (Colombia) (individual) [SDNTK].

-to-

OCHOA GUISAO, Walter, Colombia; DOB 23 Dec 1972; POB Santa Fe, Colombia; nationality Colombia; citizen Colombia; Gender Male; Cedula No. 10179825 (Colombia) (individual) [SDNTK].

Designated pursuant to one or more of the criteria under the Kingpin Act.

5. RANGEL SILVA, Henry de Jesus, Caracas, Venezuela; Cedula No. 5.764.952 (Venezuela); alt. Cedula No. V-5.764.952 (Venezuela); Director, Venezuelan Directorate of Intelligence and Prevention Services (“DISIP”) (individual) [SDNTK].

-to-

RANGEL SILVA, Henry de Jesus, Caracas, Venezuela; DOB 28 Aug 1961; nationality Venezuela; Gender Male; Cedula No. 5.764.952 (Venezuela); alt. Cedula No. V-5.764.952 (Venezuela); Director, Venezuelan Directorate of Intelligence and Prevention Services (“DISIP”) (individual) [SDNTK].

Designated pursuant to one or more of the criteria under the Kingpin Act.

6. RODRIGUEZ CHACIN, Ramon Emilio, Venezuela; Cedula No. 3169119 (Venezuela); Former Minister of Interior and Justice of Venezuela (individual) [SDNTK].

-to-

RODRIGUEZ CHACIN, Ramon Emilio, Venezuela; DOB 25 Sep 1949; nationality Venezuela; Gender Male; Cedula No. 3169119 (Venezuela); Passport 045723759 (Venezuela); Former Minister of Interior and Justice of Venezuela (individual) [SDNTK].

Designated pursuant to one or more of the criteria under the Kingpin Act.

7. TORRES MARTINEZ, Camilo, c/o REPUESTOS EL NATO Y CIA LTDA., Medellin, Colombia; c/o MI CARRO E.U., Medellin, Colombia; c/o AGROPECUARIA HATO SANTA MARIA LTDA., Medellin, Colombia; Colombia; POB Colombia; nationality Colombia; citizen Colombia; Cedula No. 71984381 (Colombia) (individual) [SDNTK].

-to-

TORRES MARTINEZ, Camilo, Colombia; DOB 31 Oct 1975; POB Unguia, Choco, Colombia; nationality Colombia; citizen Colombia; Gender Male; Cedula No. 71984381 (Colombia) (individual) [SDNTK].

Designated pursuant to one or more of the criteria under the Kingpin Act.

Entity

1. ZULEKHA GENERAL TRADING LLC (a.k.a. ZULEIKHA GENERAL TRADING; a.k.a. ZULIKHA GENERAL TRADING), P.O. Box 5456, Ajman, United Arab Emirates; C.R. No. 32035 (United Arab Emirates) [SDNTK].

-to-

ZULEKHA GENERAL TRADING LLC (a.k.a. ZULEIKHA GENERAL TRADING; a.k.a. ZULIKHA GENERAL TRADING), P.O. Box 5456, Ajman, United Arab Emirates; C.R. No. 32035 (United Arab Emirates) [SDNTK] (Linked To: GHANI, Mohammad Nadeem).

Designated pursuant to one or more of the criteria under the Kingpin Act.

Dated: September 22, 2021.
Bradley T. Smith,
Acting Director, Office of Foreign Assets Control, U.S. Department of the Treasury.

[FR Doc. 2021-20947 Filed 9-24-21; 8:45 am]

BILLING CODE 4810-AL-P